DEPARTMENT OF ENERGY

Federal Energy Regulatory Commission

Combined Notice of Filings #1

Take notice that the Commission received the following electric corporate filings:

Docket Numbers: EC14-96-000.

Applicants: Exelon Corporation, Pepco Holding Inc.

Description: Joint Application for Authorization of Disposition of Jurisdictional Assets and Merger of Exelon Corporation and Pepco Holdings, Inc.

Filed Date: 5/30/14.

Accession Number: 20140530-5361.

Comments Due: 5 p.m. ET 6/20/14.

.

Docket Numbers: EC14-97-000.

Applicants: Bayonne Energy Center, LLC, Hess Corporation, Hess Bayonne LLC, ArcLight Energy Partners Fund III, L.P., AL Bayonne Holdings, LLC.

Description: Application for Authorization Under Section 203 of the Federal Power Act and Request for Waivers, Request for Shortened Notice Period and Expedited Action, and Request for Confidential Treatment of Bayonne Energy Center, LLC, et. al.

Filed Date: 5/30/14.

Accession Number: 20140530-5464.

Comments Due: 5 p.m. ET 6/20/14.

Docket Numbers: EC14-98-000.

Applicants: Constellation Power Source Generation, L, Safe Harbor Water Power Corp., BIF II Safe Harbor Holdings LLC.

Description: Joint Application for Authorization Under Section 203 of the FPA of BIF II Safe Harbor Holdings LLC, et. al.

Filed Date: 5/30/14.

Accession Number: 20140530-5479.

Comments Due: 5 p.m. ET 6/20/14.

Take notice that the Commission received the following exempt wholesale generator filings:

Docket Numbers: EG14-59-000.

Applicants: Danskammer Energy, LLC.

Description: Notice of Self-Certification of Exempt Wholesale Generator Status of Danskammer Energy, LLC.

Filed Date: 6/2/14.

Accession Number: 20140602-5181.

Comments Due: 5 p.m. ET 6/23/14.

Take notice that the Commission received the following electric rate filings:

Docket Numbers: ER10-3310-004.

Applicants: New Harquahala Generating Company, LLC.

Description: Supplement to March 29, 2013 Triennial Market Power Report of New Harquahala Generating Company, LLC for Southwest Region.

Filed Date: 5/30/14.

Accession Number: 20140530-5346.

Comments Due: 5 p.m. ET 6/13/14.

Docket Numbers: ER14-822-002.

Applicants: PJM Interconnection, L.L.C.

Description: Compliance filing per 5/9/2014 Order in Docket No. ER14-822 to be effective 3/15/2014.

Filed Date: 6/2/14.

Accession Number: 20140602-5194.

Comments Due: 5 p.m. ET 6/23/14.

Docket Numbers: ER14-1324-000.

Applicants: Panoche Energy Center, LLC.

Description: Supplement to February 14, 2014 Panoche Energy Center, LLC tariff filing.

Filed Date: 5/20/14.

Accession Number: 20140520-5079.

Comments Due: 5 p.m. ET 6/9/14.

Docket Numbers: ER14-1668-000; ER14-1669-000; ER14-1670-000; ER14-1671-000; ER14-1672-000; ER14-1673-000; ER14-1674-000; ER14-1675-000; ER14-1676-000; ER14-1677-000; ER14-1678-000; ER14-1679-000.

Applicants: Community Wind North 1 LLC, Community Wind North 2 LLC, Community Wind North 5 LLC, Community Wind North 6 LLC, Community Wind North 15 LLC, Community Wind North 8 LLC, Community Wind North 3 LLC, Community Wind North 7 LLC, Community Wind North 9 LLC, Community Wind North 10 LLC, Community Wind North 11 LLC, Community Wind North 13 LLC.

Description: Supplement to April 7, 2014 Community Wind North 1 LLC, et. al. tariff filings.

Filed Date: 5/23/14.

Accession Number: 20140523-5199.

Comments Due: 5 p.m. ET 6/2/14.

Docket Numbers: ER14-2081-000.

Applicants: Southwest Power Pool, Inc.

Description: 1628R6 Western Farmers Electric Cooperative NITSA to be effective 5/1/2014.

Filed Date: 5/30/14.

Accession Number: 20140530-5339.

Comments Due: 5 p.m. ET 6/20/14.

Docket Numbers: ER14-2082-000.

Applicants: NSTAR Electric Company.

Description: NRG Diesels Distribution Service Agreement—2nd Amendment to 1st Supplement to be effective 6/1/2014.

Filed Date: 5/30/14.

Accession Number: 20140530-5351.

Comments Due: 5 p.m. ET 6/20/14.

Docket Numbers: ER14-2083-000.

Applicants: PJM Interconnection, L.L.C.

Description: Revisions to PJM OATT/OA—Merchant TO Schedules Revisions and Clean Up to be effective 8/1/2014.

Filed Date: 5/30/14.

Accession Number: 20140530-5356.

Comments Due: 5 p.m. ET 6/20/14.

Docket Numbers: ER14-2084-000.

Applicants: Southwest Power Pool, Inc.

Description: 2892 Kansas City Power & Light Company Sponsored Upgrade Agreement to be effective 4/30/2014.

Filed Date: 5/30/14.

Accession Number: 20140530-5357.

Comments Due: 5 p.m. ET 6/20/14.

Docket Numbers: ER14-2085-000.

Applicants: Entergy Services, Inc.

Description: Eight Annual filing implementing Service Schedule MSS-3 Rough Production Cost Equalization Bandwidth Calculation of Entergy Services, Inc.

Filed Date: 5/30/14.

Accession Number: 20140530-5359.

Comments Due: 5 p.m. ET 6/20/14.

Docket Numbers: ER14-2086-000.

Applicants: Arizona Public Service Company.

Description: Rate Schedule No. 217—Ex B.FLG, Ex. B.KOF, Ex. A Revision 2 to be effective 7/30/2014.

Filed Date: 5/30/14.

Accession Number: 20140530-5360.

Comments Due: 5 p.m. ET 6/20/14.

Docket Numbers: ER14-2087-000.

Applicants: Appalachian Power Company.

Description: Open Access Transmission Tariff to be effective 8/1/2014.

Filed Date: 5/30/14.

Accession Number: 20140530-5380.

Comments Due: 5 p.m. ET 6/20/14.

Docket Numbers: ER14-2087-001.

Applicants: Appalachian Power Company.

Description: OATT—Revise Attachments K & L, TCC Rate Update to be effective 12/31/9998.

Filed Date: 6/2/14.

Accession Number: 20140602-5137.

Comments Due: 5 p.m. ET 6/23/14.

Docket Numbers: ER14-2088-000.

Applicants: PJM Interconnection, L.L.C.

Description: Queue Position Z1-050, Original Service Agreement No. 3836 to be effective 4/30/2014.

Filed Date: 5/30/14.

Accession Number: 20140530-5413.

Comments Due: 5 p.m. ET 6/20/14.

Docket Numbers: ER14-2089-000.

Applicants: New England Power Pool Participants Committee.

Description: June 2014 Membership Filing to be effective 5/1/2014.

Filed Date: 5/30/14.

Accession Number: 20140530-5415.

Comments Due: 5 p.m. ET 6/20/14.

Docket Numbers: ER14-2090-000.

Applicants: Florida Power & Light Company.

Description: FPL and Seminole Rate Schedule No. 327 to be effective 5/31/2014.

Filed Date: 5/30/14.

Accession Number: 20140530-5438.

Comments Due: 5 p.m. ET 6/20/14.

Docket Numbers: ER14-2091-000.

Applicants: Florida Power & Light Company.

Description: FPL Revisions to Seminole FERC Rate Schedule No. 102 to be effective 5/31/2014.

Filed Date: 5/30/14.

Accession Number: 20140530-5439.

Comments Due: 5 p.m. ET 6/20/14.

Docket Numbers: ER14-2092-000.

Applicants: PJM Interconnection, L.L.C.

Description: Revisions to the OATT and OA re Clean Up for eSuite (MT23) to be effective 8/1/2014.

Filed Date: 5/30/14.

Accession Number: 20140530-5450.

Comments Due: 5 p.m. ET 6/20/14.

Docket Numbers: ER14-2093-000.

Applicants: Westar Energy, Inc.

Description: KEPCo Revision to Attachment A—Delivery Points (June 1, 2014) to be effective 6/1/2014.

Filed Date: 5/30/14.

Accession Number: 20140530-5454.

Comments Due: 5 p.m. ET 6/20/14.

Docket Numbers: ER14-2094-000.

Applicants: Puget Sound Energy, Inc.

Description: Shell Oil Products to be effective 5/1/2014.

Filed Date: 5/30/14.

Accession Number: 20140530-5458.

Comments Due: 5 p.m. ET 6/20/14.

Docket Numbers: ER14-2095-000.

Applicants: Puget Sound Energy, Inc.

Description: Air Liquide TX Agreements 692, 693, & 694 to be effective 5/1/2014.

Filed Date: 5/30/14.

Accession Number: 20140530-5459.

Comments Due: 5 p.m. ET 6/20/14.

Docket Numbers: ER14-2096-000.

Applicants: Puget Sound Energy, Inc.

Description: Intel Corporation TX Agreements 687, 688 & 689 to be effective 5/1/2014.

Filed Date: 5/30/14.

Accession Number: 20140530-5460.

Comments Due: 5 p.m. ET 6/20/14.

Docket Numbers: ER14-2097-000.

Applicants: Southern California Edison Company.

Description: Notices of Cancellation for SGIA & DistribServAgmt with Lancaster Little Rock D to be effective 5/21/2014.

Filed Date: 6/2/14.

Accession Number: 20140602-5002.

Comments Due: 5 p.m. ET 6/23/14.

Docket Numbers: ER14-2098-000.

Applicants: PJM Interconnection, L.L.C.

Description: First Revised Service Agreement No. 3148; Queue No. X1-021 to be effective 5/8/2014.

Filed Date: 6/2/14.

Accession Number: 20140602-5081.

Comments Due: 5 p.m. ET 6/23/14.

Docket Numbers: ER14-2099-000.

Applicants: PJM Interconnection, L.L.C.

Description: Original Service Agreement No. 3839; Queue No. Y3-082 to be effective 5/6/2014.

Filed Date: 6/2/14.

Accession Number: 20140602-5086.

Comments Due: 5 p.m. ET 6/23/14.

Docket Numbers: ER14-2100-000.

Applicants: PJM Interconnection, L.L.C.

Description: First Revised Service Agreement No. 3482; Queue No. W3-080 to be effective 5/8/2014.

Filed Date: 6/2/14.

Accession Number: 20140602-5107.

Comments Due: 5 p.m. ET 6/23/14.

Docket Numbers: ER14-2101-000.

Applicants: Northern States Power Company, a Minneso.

Description: 2014-6-2 Fairfax I&I Amnd-477-0.1.0 to be effective 1/1/2013.

Filed Date: 6/2/14.

Accession Number: 20140602-5127.

Comments Due: 5 p.m. ET 6/23/14.

Docket Numbers: ER14-2102-000.

Applicants: Danskammer Energy, LLC.

Description: MBR Petition to be effective 6/2/2014.

Filed Date: 6/2/14.

Accession Number: 20140602-5180.

Comments Due: 5 p.m. ET 6/23/14.

Docket Numbers: ER14-2103-000.

Applicants: Arizona Public Service Company.

Description: Rate Schedule No. 254—Amendment 1, Southwest Valley 500kV Project to be effective 8/2/2014 under ER14-2103.

Filed Date: 6/2/14.

Accession Number: 20140602-5185.

Comments Due: 5 p.m. ET 6/23/14.

Docket Numbers: ER14-2104-000.

Applicants: Southwest Power Pool, Inc.

Description: 2028R8 Sunflower Electric Power Corporation NITSA NOA to be effective 5/1/2014.

Filed Date: 6/2/14.

Accession Number: 20140602-5189.

Comments Due: 5 p.m. ET 6/23/14.

Take notice that the Commission received the following electric reliability filings.

Docket Numbers: RD14-10-000.

Applicants: North American Electric Reliability Corp.

Description: Motion to Discontinue Compliance Obligation of the North American Electric Reliability Corporation in Response to Paragraph 629 of Order No. 693.

Filed Date: 5/30/14.

Accession Number: 20140530-5484.

Comments Due: 5 p.m. ET 6/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2014.
Nathaniel J. Davis, Sr.,
Deputy Secretary.

[FR Doc. 2014-13366 Filed 6-6-14; 8:45 am]

BILLING CODE 6717-01-P